INTERNATIONAL TRADE COMMISSION

[Investigation No. 731-TA-410 (Fourth Review)]

Light-Walled Rectangular Pipe and Tube From Taiwan; Determination

On the basis of the record ¹ developed in the subject five-year review, the United States International Trade Commission (“Commission”) determines, pursuant to the Tariff Act of 1930 (“the Act”), that revocation of the antidumping duty order on light-walled rectangular pipe and tube from Taiwan would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted this review on January 3, 2017 (82 FR 137) and determined on April 10, 2017 that it would conduct an expedited review (82 FR 21406, May 8, 2017).

The Commission made this determination pursuant to section 751(c) of the Act (19 U.S.C. 1675(c)). It completed and filed its determination in this review on July 25, 2017. The views of the Commission are contained in USITC Publication 4707 (July 2017), entitled Light-Walled Rectangular Pipe and Tube from Taiwan: Investigation No. 701-TA 410 (Fourth Review).

By order of the Commission.
Issued: July 25, 2017.
Lisa R. Barton,
Secretary to the Commission.

[FR Doc. 2017-15936 Filed 7-27-17; 8:45 am]

BILLING CODE 7020-02-P